DEPARTMENT OF HEALTH AND HUMAN SERVICES

Administration for Children and Families

State Median Income Estimate for a Four-Person Family (FFY 2004); Notice of the Federal Fiscal Year (FFY) 2004 State Median Income Estimates for Use Under the Low Income Home Energy Assistance Program (LIHEAP) Administered by the Administration for Children and Families, Office of Community Services, Division of Energy Assistance

AGENCY: Office of Community Services, ACF, DHHS.

ACTION: Notice of estimated State median income for FFY 2004.

SUMMARY: This notice announces the estimated median income for four-person families in each State and the District of Columbia for FFY 2004 (October 1, 2003 to September 30, 2004). LIHEAP grantees may adopt the State median income estimates beginning with the date of this publication of the estimates in the Federal Register or at a later date as discussed below. This means that LIHEAP grantees could choose to implement this notice during the period between the heating and cooling seasons. However, by October 1, 2003, or by the beginning of a grantee's fiscal year, whichever is later, LIHEAP grantees using State median income estimates must adjust their income eligibility criteria to be in accord with the FFY 2004 State median income estimates.

This listing of estimated State median incomes provides maximum income levels for households to which LIHEAP grantees may make payments under LIHEAP.

EFFECTIVE DATE: The estimates are effective at any time between the date of this publication and October 1, 2003, or by the beginning of a LIHEAP grantee's fiscal year, whichever is later.

FOR FURTHER INFORMATION CONTACT: Leon Litow, Administration for Children and Families, DHHS, Office of Community Services, Division of Energy Assistance, 5th Floor West, 370 L'Enfant Promenade, SW., Washington, DC 20447, Telephone: (202) 401-5304, E-Mail: llitow@acf.hhs.gov.

SUPPLEMENTARY INFORMATION: Under the provisions of section 2603(7) of Title XXVI of the Omnibus Budget Reconciliation Act of 1981 (Pub. L. 97-35, as amended), we are announcing the estimated median income of a four-person family for each State, the District of Columbia, and the United States for FFY 2004 (the period of October 1, 2003, through September 30, 2004).

Section 2605(b)(2)(B)(ii) of the LIHEAP statute provides that 60 percent of the median income for each State, as annually established by the Secretary of the Department of Health and Human Services, is one of the income criteria that LIHEAP grantees may use in determining a household's eligibility for LIHEAP.

LIHEAP is currently authorized through the end of FFY 2004 by the Coats Human Services Reauthorization Act of 1998, Pub. L. 105-285, which was enacted on October 27, 1998.

Estimates of the median income of a four-person family for each State and the District of Columbia for FFY 2004 have been developed by the Bureau of the Census of the U.S. Department of Commerce, using the most recently available income data. In developing the median income estimates for FFY 2004, the Bureau of the Census used the following three sources of data: (1) The Current Population Survey 2002 Annual Demographic File; (2) the 2000 Decennial Census of Population; and (3) 2001 per capita personal income estimates, by State, from the Bureau of Economic Analysis (BEA) of the U.S. Department of Commerce.

As indicated above, the Current Population Survey 2000 Annual Demographic File is one of the data sources used in developing the State median estimates for FFY 2004. The use of this file introduces the following changes in development of the estimates:

1. The Annual Demographic File enhances income estimates produced by the Bureau of the Census from the March Current Population (CPS). In 2001, the Bureau of the Census began referring to the March CPS file as the CPS Annual Demographic File (ADF) due to a significant sample expansion to improve the accuracy of State estimates of children's health insurance coverage and an expansion of the months in which the survey is conducted.

This sample expansion, known as the State Children's Health Insurance Program (SCHIP) sample, has three components: (1) Asking the March Income Supplement questions of selected households in the February and April CPS samples, that is, of the households not also included in the March sample; (2) interviewing selected sample households from the preceding November CPS sample during the February-April period using the March Income Supplement; and (3) increasing the monthly CPS sample in States with high sampling errors for uninsured children. The sample increase added about 28,000 interviewed households to the 2001 ADF, resulting in a total sample size of about 78,000 interviewed households.

Although the expanded sample was implemented in 2001, only information from the regular 2001 March CPS sample was released when the FFY 2003 State median income estimates were calculated. The FFY 2004 estimates shown below use the expanded sample from the 2002 ADF.

2. Prior income estimates from the March CPS have been based on population controls from the 1990 Decennial Census of Population. The 2002 ADF estimates are based on population controls from the 2000 Decennial Census of Population. Nationally, the use of Census 2000-based population controls lowered the national median household income by 0.3 percent.

For further information on the estimating method and data sources, contact the Housing and Household Economic Statistics Division, at the Bureau of the Census (301-763-3243).

A state-by-state listing of median income, and 60 percent of median income, for a four-person family for FFY 2004 follows. The listing describes the method for adjusting median income for families of different sizes as specified in regulations applicable to LIHEAP, at 45 CFR 96.85(b), which was published in the Federal Register on March 3, 1988 at 53 FR 6824.

Dated: March 6, 2003.
Clarence H. Carter,
Director.

Estimated State Median Income for a Four-Person Family, by State, Federal Fiscal Year 2004 ¹
States | Estimated State median income for a four-person family ² | 60 percent of estimated State median income for a four-person family
Alabama | $54,594 | $32,756
Alaska | 71,395 | 42,837
Arizona | 56,067 | 33,640
Arkansas | 47,838 | 28,703
California | 63,761 | 38,257
Colorado | 67,634 | 40,580
Connecticut | 82,517 | 49,510
Delaware | 73,301 | 43,981
District of Col. | 61,799 | 37,079
Florida | 56,824 | 34,094
Georgia | 59,497 | 35,698
Hawaii | 66,014 | 39,608
Idaho | 51,098 | 30,659
Illinois | 66,507 | 39,904
Indiana | 63,573 | 38,144
Iowa | 61,656 | 36,994
Kansas | 61,686 | 37,012
Kentucky | 54,319 | 32,591
Louisiana | 51,234 | 30,740
Maine | 58,425 | 35,055
Maryland | 82,879 | 49,727
Massachusetts | 80,247 | 48,148
Michigan | 68,337 | 41,002
Minnesota | 72,635 | 43,581
Mississippi | 46,810 | 28,086
Missouri | 61,036 | 36,622
Montana | 48,078 | 28,847
Nebraska | 60,626 | 36,376
Nevada | 59,283 | 35,570
New Hampshire | 72,606 | 43,564
New Jersey | 80,577 | 48,346
New Mexico | 46,596 | 27,958
New York | 66,498 | 39,899
North Carolina | 56,500 | 33,900
North Dakota | 55,138 | 33,083
Ohio | 64,282 | 38,569
Oklahoma | 53,949 | 32,369
Oregon | 58,737 | 35,242
Pennsylvania | 66,130 | 39,678
Rhode Island | 70,446 | 42,268
South Carolina | 59,212 | 35,527
South Dakota | 59,718 | 35,831
Tennessee | 56,052 | 33,631
Texas | 56,606 | 33,964
Utah | 59,035 | 35,421
Vermont | 62,938 | 37,763
Virginia | 69,616 | 41,770
Washington | 65,997 | 39,598
West Virginia | 49,470 | 29,682
Wisconsin | 65,441 | 39,265
Wyoming | 58,541 | 35,125
Note—FFY 2004 covers the period of October 1, 2003 through September 30, 2004. The estimated median income for a four-person family living in the United States is $63,278 for FFY 2004. The estimates are effective for the Low Income Home Energy Assistance Program (LIHEAP) at any time between the date of this publication and October 1, 2003, or by the beginning of a LIHEAP grantee's fiscal year, whichever is later.
¹ In accordance with 45 CFR 96.85, each State's estimated median income for a four-person family is multiplied by the following percentages to adjust for family size: 52% for one person, 68% for two persons, 84% for three persons, 100% for four persons, 116% for five persons, and 132% for six persons. For each additional family member above six persons, add 3% to the percentage for a six-person family (132%), and multiply the new percentage by the State's estimated median income for a four-person family.
² Prepared by the Bureau of the Census from the Current Population Survey 2002 Annual Demographic File, 2000 Decennial Census of Population and Housing, and 2001 per capita personal income estimates, by State, from the Bureau of Economic Analysis (BEA). For further information, contact the Housing and Household Economic Statistics Division at the Bureau of the Census (301-763-3243).

[FR Doc. 03-9088 Filed 4-14-03; 8:45 am]

BILLING CODE 4184-01-P